DEPARTMENT OF HEALTH AND HUMAN SERVICES

Administration on Aging

Availability of Funding Opportunity Announcement

Funding Opportunity Title/Program Name: National Minority Aging Organizations—Technical Assistance Centers.

Announcement Type: Initial.

Funding Opportunity Number: HHS-2006-AoA-HD-0607.

Statutory Authority: The Older Americans Act of 1965, as amended, Public Law 106-501.

Catalog of Federal Domestic Assistance (CFDA) Number: 93.048.

Key Dates: The deadline date for receipt of applications is July 14, 2006.

I. Funding Opportunity Description

The Administration on Aging (AoA) wishes to promote improvement of the health status of racial and ethnic minority older individuals by increasing the efficiency of the NMAO Technical Assistance Centers Program to disseminate culturally competent health promotion and disease prevention information. To this end, the AoA plans to award four (4) new cooperative agreements for National Minority Aging Organization Technical Assistance Centers (NMAOs) for the development of culturally competent and linguistically appropriate front line health promotion and disease prevention strategies for racial and ethnic minority older individuals. Projects will develop practical, nontraditional, community-based interventions for reaching older individuals who experience barriers to accessing home and community-based services due to language and low literacy as well as other barriers directly related to cultural diversity.

The NMAO Centers will incorporate the latest technology to generate and disseminate knowledge in appropriate forms that can assist racial and ethnic minority older individuals to practice positive health behaviors that can strengthen their capacity to maintain active, independent life styles. Technology may be used in any number of formats or strategies from development and dissemination of CDs or DVDs or other portable electronics for senior center or at home use by older individuals, to PowerPoint Presentations for use by, as well as to train, senior center and nutrition site staff, visiting service providers, family members, etc. Technology can be especially helpful for reaching limited English speaking older individuals, both directly and through mass media such as public service announcements (PSAs). For many who may be unable to read, family members can be provided a way to help seniors get clear information which they received from an electronic device. The NMAO Centers will serve as national points of contact for tools and information on health promotion and disease prevention. They will pilot culturally competent activities and work products tailored to meet the special needs of racial and ethnic minority older individuals, including limited English speaking individuals.

The awards will be cooperative agreements because the Administration on Aging will be substantially involved in the development and execution of the activities of the technical assistance centers. The Administration on Aging will work closely with the grantees to affect collaborative partnerships among the other NMAO Centers. Consultation will be provided on the development, modification and execution of Center work plans, the identification of emerging issues, potential strategies and their impact on racial and ethnic minority older individuals nationwide.

A detailed description of the funding opportunity may be found at: http://www.aoa.gov/doingbus/fundopp.asp.

II. Award Information

Through this competition, AoA plans to award approximately four (4) new cooperative agreements for new projects, for a first year total of $1,069,186. Each project should focus on older individuals in one of the following four major racial and ethnic minority groups: African American (1 project @ $294,622); American Indian and Alaska Native (1 project @ $127,669); persons of Hispanic origin (1 project @ $294,622); and Asian American and Pacific Islander (1 project @ $352,273). Projects will be funded for a 3 year period, contingent upon the availability of federal funds. Grantees are required to cover at least 25% of the total program costs from non-federal cash or in-kind resources.

III. Eligibility Criteria and Other Requirements

This competition is open to public and private non profit agencies and organizations, including faith- and community-based organizations (FBOs and CBOs), with a nationally known presence and the capacity to reach one of the target populations on a nationwide basis. It is not limited to previous grantees. Awards made under this competition will develop health promotion and disease prevention information that specifically targets one of the four major racial and ethnic minority groups of older individuals nationwide. For this reason, the competition is limited to organizations with national presence and the capacity to mount the type of strategic, broad based effort that can reach large segments of each population. To be considered for funding, applicants must be experienced in providing health promotion and disease prevention education to racial and ethnic minority older individuals, including persons with limited English speaking proficiency on a nationwide basis. Applicants should ideally be a well-established, known presence in their respective professional communities, and must present a comprehensive plan to allow nationwide access to products produced by the project.

IV. Application and Submission Information

All applicants are required to submit electronically through http://www.grants.gov by midnight July 14, 2006.

Exceptions to this requirement may only by made by the AOA grants office. Contact Stephen Daniels (202-357-3464). Exceptions may only be made to allow for catastropic events such as tornadoes, floods, etc.

Please note that applicants are responsible for mailing or hand delivering applications to AOA in sufficient time to be received by 5 p.m. eastern time July 14, 2006.

1. Address To Request Application Package

Application materials can be obtained from http://www.grants.gov or http://www.aoa.gov/doingbus/fundopp/fundopp.asp.

Applicants with prior approval may write for materials to:

U.S. Department of Health and Human Services, Administration on Aging, Dianne A. Freeman, Center for Wellness and Community Based Services, Washington, DC 20201, or call: Dianne A. Freeman at 202-357-3536, e-mail: Dianne.Freeman@aoa.hhs.gov.

U.S. Department of Health and Human Services, Administration on Aging, Margaret Graves, Center for Wellness and Community Based Services, Washington, DC 20201, or call: Margaret Graves at 202-357-3502, e-mail: Margaret.Graves@aoa.hhs.gov.

Please note that AoA is requiring applications for this announcement to be submitted electronically through http://www.grants.gov. The Grants.gov registration process can take several days. If your organization is not currently registered with http://www.grants.gov, please begin this process immediately. For assistance with http://www.grants.gov, please contact Arthur Miller at AoA's Grants.gov helpdesk at 202-357-3438. At http://www.grants.gov, you will be able to download a copy of the application packet, complete it off-line, and then upload and submit the application via the Grants.gov Web site.

Applications submitted via http://www.grants.gov:

• You may access the electronic application for this program on http://www.Grants.gov. You must search the downloadable application page by the CFDA number (93.048).

• At the http://www.grants.gov Web site, you will find information about submitting an application electronically through the site, including the hours of operation. AoA strongly recommends that you do not wait until the application due date to begin the application process through http://www.grants.gov because of the time delay.

• All applicants must have a Dun and Bradstreet (D&B) Data Universal Numbering System number and register in the Central Contractor Registry (CCR). You should allow a minimum of five days to complete the CCR registration.

• You may submit all documents electronically, including all information included on the SF 424 and all necessary assurances and certifications.

• Your application must comply with any page limitation requirements described in this program announcement.

• After you electronically submit your application, you will receive an automatic acknowledgment from http://www.grants.gov that contains a Grants.gov tracking number. The Administration on Aging will retrieve your application form from Grants.gov.

• We may request that you provide original signatures on forms at a later date.

2. Content and Form of Application Submission

a. DUNS Number

The Office of Management and Budget requires applicants to provide a Dun and Bradstreet (D&B) Data Universal Numbering System (DUNS) number when applying for Federal grants or cooperative agreements on or after October 1, 2003. It is entered on the SF 424. It is a unique, nine-digit identification number, which provides unique identifiers of single business entities. The DUNS number is free and easy to obtain.

Organizations can receive a DUNS number at no cost by calling the dedicated toll-free DUNS Number request line at 1-866-705-5711 or by using this link: https://www.whitehouse.gov/omb/grants/duns_num_guide.pdf.

Applicants unable to submit their application via http://www.grants.gov may request permission to submit a hard copy from the AoA Grants Management Officer: Stephen Daniels, daniels.stephen@aoa.hhs.gov, (202) 357-3464.

If you mail or hand deliver your application, you must submit one original application and two copies, plus a completed application checklist to AoA. The application deadline for applications sent by U.S. Postal Service must be post-marked by midnight July 14, 2006 or hand-delivered by 5 p.m. Eastern Time on July 14, 2006.

Submissions using the regular U.S. Postal Service must be addressed to: Department of Health and Human Services, Administration on Aging, Grants Management Division, Washington, DC 20201, Attention: Stephen Daniels.

Submissions by courier, overnight delivery, delivered in person, etc. should be addressed to: Department of Health and Human Services, Administration on Aging, Grants Management Division, One Massachusetts Avenue, NW., Room 4604, Washington, DC 20001, Attention: Stephen Daniels.

1. Submission Dates and Times

To receive consideration, applications must be received by the deadline listed in the “Dates” section of this Notice.

V. Responsiveness Criteria

Each application submitted will be screened to determine whether it was received by the closing date and time.

Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria:

• Purpose and Need for Assistance—Weight: 20 points.

• Approach/Method—Work Plan and Activities—Weight: 30 points.

• Outcomes/Evaluation/Dissemination—Weight: 30 points.

• Level of Effort (Organization and Management; Budget and Resources)—Weight: 20 points.

VII. Agency Contacts

Direct inquiries regarding programmatic issues to the U.S. Department of Health and Human Services, Administration on Aging, Center for Wellness and Community-Based Care, Washington, DC 20201, telephone: (202) 357-3464.

Dated: May 30, 2006.
Josefina G. Carbonell,
Assistant Secretary for Aging.

[FR Doc. E6-8623 Filed 6-1-06; 8:45 am]

BILLING CODE 4154-01-P